INTERNATIONAL TRADE COMMISSION

[USITC SE-13-038]

Government in the Sunshine Act Meeting Notice

AGENCY HOLDING THE MEETING: United States International Trade Commission.

TIME AND DATE: December 17, 2013 at 11:00 a.m.

PLACE: Room 101, 500 E Street SW., Washington, DC 20436, Telephone: (202) 205-2000.

STATUS: Open to the public.

MATTERS TO BE CONSIDERED:

1. Agendas for future meetings: None

2. Minutes

3. Ratification List

4. Vote in Inv. Nos. 701-TA-405, 406, and 408 and 731-TA-899-901 and 906-908 (Third Review) (Hot-Rolled Steel Products from China, India, Indonesia, Taiwan, Thailand, and Ukraine). The Commission is currently scheduled to complete and file its determinations and views on or before January 14, 2014.

5. Outstanding action jackets: None

In accordance with Commission policy, subject matter listed above, not disposed of at the scheduled meeting, may be carried over to the agenda of the following meeting. Earlier notification of this meeting was not possible.

By order of the Commission.
Issued: December 13, 2013.
William R. Bishop,
Supervisory Hearings and Information Officer.

[FR Doc. 2013-30058 Filed 12-13-13; 11:15 am]

BILLING CODE 7020-02-P